DEPARTMENT OF ENERGY

Federal Energy Regulatory Commission

Notice of Commission Staff Attendance

The Federal Energy Regulatory Commission (Commission) hereby gives notice that members of the Commission's staff will attend the following meeting related to the Northern Tier Transmission Group's (NTTG) 2014-2015 regional transmission plan development:

NTTG Quarter 3 Stakeholder Meeting

September 23, 2014 (12:30-3:30 p.m. Mountain Time)

The above-referenced meeting will be held at:

La Quinta Inn & Suites, 620 Nikles Drive, Bozeman, MT 59715.

The above-referenced meeting is open to the public.

Further information may be found at: http://nttg.biz.

The discussions at the meeting described above may address matters at issue in the following proceedings:

Docket No. ER13-1448-000, NorthWestern Corporation

Docket No. ER13-1457-000, Deseret Generation & Transmission Cooperative

Docket No. ER13-1463-000, Portland General Electric Company

Docket No. ER13-1467-000, Idaho Power Company

Docket No. ER13-1473-000, PacifiCorp

For more information, contact Michael Herbert, Office of Energy Policy and Innovation, Federal Energy Regulatory Commission at (202) 502-8929 or michael.herbert@ferc.gov.

Dated: September 16, 2014.
Kimberly D. Bose,
Secretary.

[FR Doc. 2014-22650 Filed 9-23-14; 8:45 am]

BILLING CODE 6717-01-P